INTERNATIONAL TRADE COMMISSION

[Investigation Nos. 731-TA-1114 and 1115 (Final)]

Certain Steel Nails From China and the United Arab Emirates

AGENCY: United States International Trade Commission.

ACTION: Revised schedule for the subject investigations.

EFFECTIVE DATE: May 15, 2008.

FOR FURTHER INFORMATION CONTACT: Fred Ruggles (202-205-3187), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On February 8, 2008, the Commission established a schedule for the conduct of the final phase of the subject investigations (73 FR 7590). The Commission is hereby revising its schedule.

The Commission's new schedule for the investigations is as follows: requests to appear at the hearing must be filed with the Secretary to the Commission not later than June 5, 2008; the prehearing conference will be held at the U.S. International Trade Commission Building at 9:30 a.m. on June 9, 2008; the hearing will be held at the U.S. International Trade Commission Building at 9:30 a.m. on June 11, 2008; and the deadline for filing posthearing briefs is June 18, 2008.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: May 16, 2008.
Marilyn R. Abbott,
Secretary to the Commission.

[FR Doc. E8-11459 Filed 5-21-08; 8:45 am]

BILLING CODE 7020-02-P